DEPARTMENT OF TRANSPORTATION

Federal Aviation Administration

Notice of Release From Federal Grant Assurance Obligations at Fresno Yosemite International Airport, Fresno, CA

AGENCY: Federal Aviation Administration, DOT.

ACTION: Notice of request to release airport land.

SUMMARY: The Federal Aviation Administration (FAA) proposes to rule and invites public comment on the application for a release of approximately 16.02 acres of airport property at the Fresno Yosemite International Airport, Fresno, California from all conditions contained in the Grant Assurances since the parcels of land is not needed for airport purposes. The land is located approximately 5,000 feet from the end of runway 11L in the northwest corner of the airport property. The property will be sold for its fair market value to the California Department of Transportation (CALTRANS) and the proceeds deposited in the airport account. CALTRANS will continue to use the land as passive wetlands, which will keep the property vacant and compatible with the airport to ensure it does not interfere with the airport or its operation, as well as continuing to serve the interest of civil aviation.

DATES: Comments must be received on or before April 2, 2012.

FOR FURTHER INFORMATION CONTACT: Comments on the request may be mailed or delivered to the FAA at the following address: Robert Lee, Airports Compliance Specialist, Federal Aviation Administration, San Francisco Airports District Office, Federal Register Comment, 1000 Marina Boulevard, Suite 220, Brisbane, CA 94005. In addition, one copy of the comment submitted to the FAA must be mailed or delivered to Mr. Russell C. Widmar, Director of Aviation, 4995 E. Clinton Way, Fresno, CA 93727.

SUPPLEMENTARY INFORMATION: In accordance with the Wendell H. Ford Aviation Investment and Reform Act for the 21st Century (AIR 21), Public Law 106-181 (Apr. 5, 2000; 114 Stat. 61), this notice must be published in the Federal Register 30 days before the Secretary may waive any condition imposed on a federally obligated airport by surplus property conveyance deeds or grant agreements.

The following is a brief overview of the request:

The City of Fresno, California requested a release from grant assurance obligations for approximately 16.02 acres of airport land to allow for its sale. The property was originally acquired as two separate parcels with federal funding and airport generated funds. Approximately 5.32 Acres were acquired under Airport Development Aid Program (ADAP) grant No. 6-06-0087-06 and 10.70 acres of the land was acquired from the State of California with airport generated funds.

Due to its location and condition, the property cannot be used for airport purposes. The property previously contained homes that have been removed and the land cleared. The land is presently kept vacant and is unimproved and does not have income generating potential. The planned land use is for water recharge, ponding basin, and passive wetlands. The property will be kept mitigated to ensure that its passive use does not interfere with airport operations. The release will allow 16.02 acres to be sold to CALTRANS. The sale price will be based on an upward adjusted appraised market value of $762,450. The sale proceeds will be deposited in the airport account. The Fresno Yosemite International Airport will be properly compensated, thereby serving the interests of civil aviation.

Issued in Brisbane, California, on February 22, 2012.
Robin K. Hunt,
Manager, San Francisco Airports District Office, Western-Pacific Region.

[FR Doc. 2012-5167 Filed 3-1-12; 8:45 am]

BILLING CODE 4910-13-P